DEPARTMENT OF HOUSING AND URBAN DEVELOPMENT

[Docket No. FR-5288-N-03]

Notice of Proposed Information Collection for Public Comment for the Housing Choice Voucher Program: Application, Allowances for Tenant-Furnished Utilities, Inspections, Financial Reports, Request for Tenancy Approval, Housing Voucher, Portability Information, Housing Assistance Payments Contracts and Tenancy Addenda, Homeownership Obligations, Tenant Information for Owner, Voucher Transfers, Homeownership Contracts of Sale, Information for Additional Renewal Funding, and the Project-Based Voucher Program

AGENCY: Office of the Assistant Secretary for Public and Indian Housing (HUD).

ACTION: Notice.

SUMMARY: The proposed information collection requirement described below will be submitted to the Office of Management and Budget (OMB) for review, as required by the Paperwork Reduction Act. The Department is soliciting public comments on the subject proposal.

DATES: Comments Due Date: June 9, 2009.

ADDRESSES: Interested persons are invited to submit comments regarding this proposal. Comments should refer to the proposal by name or OMB Control Number and should be sent to: Lillian L. Deitzer, Department Reports Management Officer, ODAM, Department of Housing and Urban Development, 451 7th Street, SW., Room 4116, Washington, DC 20410-5000; telephone: 202-708-2374, (this is not a toll-free number) or e-mail Ms. Deitzer at Lillian_L._Deitzer@HUD.gov for a copy of the proposed form and other available information.

FOR FURTHER INFORMATION CONTACT: Dacia Rogers, Office of Policy, Programs and Legislative Initiatives, PIH, Department of Housing and Urban Development, 451 Seventh Street, SW., Washington, DC 20410; telephone: 202-708-0713, (this is not a toll-free number).

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also Lists the Following Information:

Title of Proposal: Housing Choice Voucher (HCV) Program: Application, Allowances for Tenant-Furnished Utilities, Inspections, Financial Reports, Request for Tenancy Approval, Housing Voucher, Portability Information, Housing Assistance Payments (HAP) Contracts, Tenancy Addendum, Homeownership Obligations, Tenant Information for Owner, Voucher Transfers, Homeownership Contracts of Sale, Information Requirements for Additional Renewal Funding and the Project-Based Voucher program.

OMB Control Number: 2577-0169.

Description of the Need for the Information and Proposed Use:

Public Housing Agencies (PHA) will prepare an application for funding which specifies the number of units requested, as well as the PHA's objectives and plans for administering the HCV program. The application is reviewed by the HUD Field Office and ranked according to the PHA's administrative capability, the need for housing assistance, and other factors specified in the Notice of Funding Availability (NOFA). The PHAs must establish a utility allowance schedule for all utilities and other services. Units must be inspected using HUD-prescribed forms to determine if the units meet the housing quality standards (HQS) of the HCV program. PHAs are also required to maintain financial reports in accordance with accepted accounting standards. The PHA is required to submit one financial document into an Internet-based Voucher Management System four times a year. After the family is issued a HCV to search for a unit, the family must complete and submit to the PHA a Request for Tenancy Approval when it finds a unit which is suitable for its needs. Initial PHAs will use a standardized form to submit portability information to the receiving PHA who will also use the form for monthly portability billing. PHAs and Owners will enter into HAP Contacts each providing information on rents, payments, certifications, notifications, and Owner agreement in a form acceptable to the PHA. A tenancy addendum is included in the HAP contract as well as incorporated in the lease between the owner and the family. Families that participate in the Homeownership program will execute a statement regarding their responsibilities and execute contracts of sale including an additional contract of sale for new construction units. PHAs that wish to voluntarily transfer their HCV programs will notify HUD for approval and, once approved, all affected families and owners of the divested PHA. PHAs participating in the Project-Based Voucher program will enter into Agreements with developing owners, HAP contacts with the existing and New Construction/Substantial Rehabilitation owners, Statement of Family Responsibility with the family and a lease Addendum will be provided for execution between the family and the owner.

Agency form numbers: HUD-52515, HUD-52667, HUD-52580, HUD-52580-A, HUD-52681, HUD-52681-B, HUD-52672, HUD-52517, HUD-52646, HUD-52665, HUD-52641, HUD-52641-A, HUD-52642, HUD-52642-A, HUD-52649, HUD-52531A and B, HUD-52530A, HUD-52530B, HUD-52530C, HUD-52578B.

Members of the Affected Public: State and Local Governments, businesses or other for-profits.

Estimation of the Total Number of Hours Needed To Prepare the Information Collection Including the Number of Respondents, Frequency of Response, and Hours of Response: The Number of respondents (2450 PHAs + 245,000 families + 245,000 tenant-based owners) = 492,450 total respondents. Hours per response vary for each form from annually, quarterly and on-occasion. Total annual burden hours 1,071,354.

Status of the Proposed Information Collection: Revision of a currently approved collection due to the addition of Project-Based Voucher program forms.

Authority: Section 3506 of the Paperwork Reduction Act of 1995, 44 U.S.C. Chapter 35, as amended.

Dated: April 2, 2009.
Bessy Kong,
Deputy Assistant Secretary, Office of Policy, Program and Legislative Initiatives.

[FR Doc. E9-8186 Filed 4-9-09; 8:45 am]

BILLING CODE 4210-67-P